DEPARTMENT OF ENERGY

Federal Energy Regulatory Commission

[Docket No. RP00-289-000]

Tennessee Gas Pipeline Company; Notice of Tariff Filing

May 23, 2000.

Take notice that on May 18, 2000, Tennessee Gas Pipeline Company (Tennessee) tendered for filing as part of its FERC Gas Tariff, the following tariff sheets with an effective date of June 1, 2000:

Fifth Revised Volume No. 1

Twenty Fourth Revised Sheet No. 26B

Fourth Revised Sheet No. 180

Eighth Revised Sheet No. 181

First Revised Sheet No. 220A

Original Volume No. 2

Forty First Revised Sheet No. 5

First Revised Sheet No. 2028

Tennessee states this filing is to update Rate Schedules NET, NET 284 and T-180 to reflect the conversions of various shippers from Part 157 service to Part 284 service.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

Linwood A. Watson, Jr.,
Acting Secretary.

[FR Doc. 00-13363 Filed 5-26-00; 8:45 am]

BILLING CODE 6717-01-M